DEPARTMENT OF TRANSPORTATION

Federal Aviation Administration

14 CFR Part 39

[Docket No. FAA-2007-0076; Directorate Identifier 2007-NM-241-AD; Amendment 39-15246; AD 2007-22-10]

RIN 2120-AA64

Airworthiness Directives; Airbus Model A330-200, A330-300, A340-200, A340-300, A340-500, and A340-600 Series Airplanes

AGENCY: Federal Aviation Administration (FAA), Department of Transportation (DOT).

ACTION: Final rule; request for comments.

SUMMARY: We are superseding an existing airworthiness directive (AD) for the products listed above. This AD results from mandatory continuing airworthiness information (MCAI) originated by an aviation authority of another country to identify and correct an unsafe condition on an aviation product. The MCAI describes the unsafe condition as:

During MLG (main landing gear) lubrication, a crack was found visually in the MLG rib 6 aft bearing forward lug on one A330 in service aircraft. * * * This condition, if not detected and corrected, could affect the structural integrity of the MLG attachment.

Failure of the forward lug could result in collapse of the MLG upon landing. This AD requires actions that are intended to address the unsafe condition described in the MCAI.

DATES: This AD becomes effective November 16, 2007.

The Director of the Federal Register approved the incorporation by reference of certain publications listed in the AD as of November 16, 2007.

The Director of the Federal Register approved the incorporation by reference of certain other publications listed in the AD as of February 15, 2007 (72 FR 4416, January 31, 2007).

We must receive comments on this AD by December 3, 2007.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION:

Discussion

On January 23, 2007, we issued AD 2007-03-04, Amendment 39-14915 (72 FR 4416, January 31, 2007). That AD required actions intended to address an unsafe condition on the products listed above.

Since we issued AD 2007-03-04, it has been determined that the previous modification/repair (interference fit bushings) cannot be considered as terminating action to the inspection because of the unknown root cause of the cracking.

The European Aviation Safety Agency (EASA), which is the Technical Agent for the Member States of the European Community, has issued Emergency Airworthiness Directive 2007-0247 R1-E, dated September 7, 2007, corrected October 4, 2007 (referred to after this as “the MCAI”), to correct an unsafe condition for the specified products. The MCAI states:

During MLG (main landing gear) lubrication, a crack was found visually in the MLG rib 6 aft bearing forward lug on one A330 in service aircraft. The crack had extended through the entire thickness of the forward lug at approximately the 4 o'clock position (when looking forward). Despite intensive investigation so far, Airbus has not been able to determine the root cause of this single event. This condition, if not detected and corrected, could affect the structural integrity of the MLG attachment.

Emergency Airworthiness Directive (EAD) 2006-0364-E [which corresponds to FAA AD 2007-03-04] was issued to require repetitive detailed visual inspections of the LH (left hand) and RH (right hand) wing MLG rib 6 aft bearing lugs. This new EAD, which supersedes EAD 2006-0364-E, is issued to:

—Expand the applicability to all A330 and A340 series aircraft, because the interference fit bushes cannot be considered as a terminating action, owing to unknown root cause; and

—Add a second parameter quoted in Flight Hours (FH) to the inspection interval in order to reflect the aircraft utilisation in service.

Failure of the forward lug could result in collapse of the MLG upon landing. If any crack is detected, the corrective action is contacting Airbus for repair instructions and replacing the cracked MLG rib 6 fitting before further flight. You may obtain further information by examining the MCAI in the AD docket.

Relevant Service Information

Airbus has issued Service Bulletins A330-57-3096, Revision 02, dated August 13, 2007; A340-57-4104, Revision 02, dated September 5, 2007; and A340-57-5009, Revision 01, dated August 13, 2007. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because during an MLG maintenance task for lubrication, a crack was found visually in the wing MLG rib 6 aft bearing forward lug on one in-service A330 airplane. The crack had extended through the entire thickness of the forward lug at the 4 o'clock position. The root cause has not been determined and therefore the previous modification/repair (interference fit bushings) cannot be considered as terminating action to the inspections. Inspections are now necessary on all Model A330-200, A330-300, A340-200, A340-300, A340-500, and A340-600 series airplanes, both with and without a previous modification/repair installed. Failure of the MLG attachment could result in MLG collapse upon landing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-0076; Directorate Identifier 2007-NM-241-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14915 (72 FR 4416, January 31, 2007) and adding the following new AD:

2007-22-10 Airbus: Amendment 39-15246. Docket No. FAA-2007-0076; Directorate Identifier 2007-NM-241-AD.

Effective Date

(a) This airworthiness directive (AD) becomes effective November 16, 2007.

Affected ADs

(b) This AD supersedes AD 2007-03-04.

Applicability

(c) This AD applies to all Airbus Model A330-200, A330-300, A340-200, A340-300, A340-500, and A340-600 series airplanes, certificated in any category, all certified models, all serial numbers.

Subject

(d) Air Transport Association (ATA) of America Code 57: Wings.

Reason

(e) The mandatory continued airworthiness information (MCAI) states:

During MLG (main landing gear) lubrication, a crack was found visually in the MLG rib 6 aft bearing forward lug on one A330 in service aircraft. The crack had extended through the entire thickness of the forward lug at approximately the 4 o'clock position (when looking forward). Despite intensive investigation so far, Airbus has not been able to determine the root cause of this single event. This condition, if not detected and corrected, could affect the structural integrity of the MLG attachment.

Emergency Airworthiness Directive (EAD) 2006-0364-E was issued to require repetitive detailed visual inspections of the LH (left hand) and RH (right hand) wing MLG rib 6 aft bearing lugs. This new EAD, which supersedes EAD 2006-0364-E, is issued to:

—Expand the applicability to all A330 and A340 series aircraft, because the interference fit bushes cannot be considered as a terminating action, owing to unknown root cause; and

—Add a second parameter quoted in Flight Hours (FH) to the inspection interval in order to reflect the aircraft utilisation in service.

Failure of the forward lug could result in collapse of the MLG upon landing. If any crack is detected, the corrective action is contacting Airbus for repair instructions and replacing the cracked MLG rib 6 fitting before further flight.

Restatement of the Requirements of AD 2007-03-04

(f) Unless already done, do the following actions in accordance with the instructions defined in the applicable service bulletin listed in Table 1 of this AD. After the effective date of this AD, the following Airbus Service Bulletins must be used, as applicable: A330-57-3096, Revision 02, dated August 13, 2007; A340-57-4104, Revision 02, dated September 5, 2007; and A340-57-5009, Revision 01, dated August 13, 2007.

Table 1.—Airbus Service Information
Airbus Service Bulletin | Revision level | Date
A330-57A3096 | Original | December 5, 2006.
A330-57A3096 | 02 | August 13, 2007.
A340-57A4104 | Original | December 5, 2006.
A340-57A4104 | 02 | September 5, 2007.
A340-57A5009 | Original | December 5, 2006.
A340-57-5009 | 01 | August 13, 2007.

(1) For airplanes identified in paragraphs (f)(1)(i), (f)(1)(ii), and (f)(1)(iii) of this AD: Within 60 months since first flight, or 14 days after February 15, 2007 (the effective date of AD 2007-03-04), whichever occurs later, perform a detailed visual inspection of the LH (left-hand) and RH (right-hand) wing MLG rib 6 aft bearing lugs (forward and aft) to detect any cracks on the two lugs.

(i) Airbus Model A330-200 and A330-300 series airplanes, except those on which Airbus modification 49353 has been embodied in production, or Airbus Service Bulletin A330-57-3082 has been embodied in service on both wings, and except those that have been repaired on both wings as per Airbus UK Limited Repair Drawing R572-56230, or Airbus A330 Structural Repair Manual 57-26-13, page block 201.

(ii) Airbus Model A340-200 and A340-300 series airplanes, except those on which Airbus modification 49353 has been embodied in production, or Airbus Service Bulletin A340-57-4088 has been embodied in service on both wings, and except those that have been repaired on both wings as per Airbus UK Limited Repair Drawing R572-56230, or Airbus A340 Structural Repair Manual 57-26-13, page block 201.

(iii) Airbus Model A340-500 and A340-600 series airplanes, except those on which Airbus modification 50040 or 51585 has been embodied in production.

(2) If any crack is detected, contact Airbus immediately and proceed with the replacement of the MLG rib 6 before further flight. Repeat the inspection required by paragraph (f)(1) of this AD thereafter as specified in paragraph (g)(2) of this AD.

(3) If no crack is detected, repeat the inspection required by paragraph (f)(1) of this AD at intervals not to exceed the applicable interval specified in paragraph (f)(3)(i), (f)(3)(ii), or (f)(3)(iii) of this AD, until the first inspection required by paragraph (g)(2) of this AD is done. Repeat the inspection thereafter as specified in paragraph (g)(2) of this AD. If any crack is detected during the repeat inspections, before further flight, apply the corrective action mentioned in paragraph (f)(2) of this AD as applicable.

(i) 300 flight cycles (FC) for Model A330 airplanes.

(ii) 200 FC for Model A340-200 and A340-300 airplanes.

(iii) 100 FC for Model A340-500 and A340-600 airplanes.

New Requirements of This AD: Actions and Compliance

(g) Unless already done, do the following actions.

(1) For airplanes not affected by paragraph (f)(1) of this AD: Within 60 months since first flight, or 14 days after the effective date of this AD, whichever occurs later, do the action required by paragraph (f)(1) of this AD in accordance with the instructions defined in Airbus Service Bulletin A330-57-3096, Revision 02, dated August 13, 2007; A340-57-4104, Revision 02, dated September 5, 2007; or A340-57-5009, Revision 01, dated August 13, 2007; as applicable. If any crack is detected during any inspection required by this paragraph, before further flight do the actions required by paragraph (f)(2) of this AD.

(2) For all airplanes: Repeat the detailed visual inspection for cracking of the LH and RH wing MLG Rib 6 bearing lugs (forward and aft) at the applicable interval specified in Table 2 of this AD, except as provided by paragraph (g)(3) of this AD. If any crack is detected during any inspection required by this paragraph, before further flight do the actions required by paragraph (f)(2) of this AD.

Note 1: Replacement of the MLG Rib 6 fitting in accordance with paragraph (f)(2) of this AD does not constitute terminating action for the inspection requirements of this AD.

Note 2: If the MLG Rib 6 fitting is replaced in accordance with paragraph (f)(2) of this AD, the first inspection threshold for the replaced MLG Rib 6 is 5 years after such replacement.

(3) For airplanes that have been inspected before the effective date of this AD in accordance with the applicable service bulletin specified in Table 3 of this AD: Apply the new interval specified in Table 2 of this AD from the first inspection, scheduled in accordance with the requirements of paragraph (f)(3) of this AD, that occurs after the effective date of this AD.

Table 2.—Repetitive Inspection Intervals
Model | Interval (whichever occurs first)
A330-200 series airplanes | 300 flight cycles or 1,500 flight hours.
A330-300 series airplanes | 300 flight cycles or 900 flight hours.
A340-200 series airplanes | 200 flight cycles or 800 flight hours.
A300-300 series airplanes, except WV27 | 200 flight cycles or 800 flight hours.
A340-300 series airplanes, WV27 | 200 flight cycles or 400 flight hours.
A340-500 and -600 series airplanes | 100 flight cycles or 500 flight hours.

Table 3.—Earlier Revisions of Service Bulletins
Airbus Service Bulletin | Revision Level | Date
A330-57A3096 | Original | December 5, 2006.
A330-57A3096 | 01 | April 18, 2007.
A340-57A4104 | Original | December 5, 2006.
A340-57-4104 | 01 | August 13, 2007.
A340-57A5009 | Original | December 5, 2006.

(4) Actions done before the effective date of this AD in accordance with Airbus Service Bulletin A330-57A3096, Revision 01, dated April 18, 2007; and A340-57-4104, Revision 01, dated August 13, 2007; are acceptable for compliance with the corresponding requirements of this AD.

FAA AD Differences

Note 3: This AD differs from the MCAI and/or service information as follows: No differences.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Backman, Aerospace Engineer, International Branch, ANM-116, Transport Airplane Directorate, FAA, 1601 Lind Avenue, SW., Renton, Washington 98057-3356; telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

(4) Special Flight Permits: We are not allowing special flight permits, as described in Section 21.197 and Section 21.199 of the Federal Aviation Regulations (14 CFR 21.197 and 21.199).

Related Information

(i) Refer to Mandatory Continuing Airworthiness Information (MCAI) European Aviation Safety Agency (EASA) Emergency Airworthiness Directive 2007-0247 R1-E, dated September 7, 2007 (corrected October 4, 2007), and the service bulletins listed in Table 4 of this AD, for related information.

Table 4.—Related Service Bulletins
Airbus Service Bulletin | Revision level | Date
(1) A330-57-3096 | 02 | August 13, 2007.
(2) A340-57-4104 | 02 | September 5, 2007.
(3) A340-57-5009 | 01 | August 13, 2007.

Material Incorporated by Reference

(j) You must use the service bulletins identified in Table 5 of this AD to do the actions required by this AD, unless the AD specifies otherwise.

Table 5.—Material Incorporated by Reference
Airbus Service Bulletin | Revision level | Date
A330-57A3096 | Original | December 5, 2006.
A330-57-3096, excluding Appendix 01 | 02 | August 13, 2007.
A340-57A4104 | Original | December 5, 2006.
A340-57-4104, excluding Appendix 01 | 02 | September 5, 2007.
A340-57A5009 | Original | December 5, 2006.
A340-57-5009, excluding Appendix 01 | 01 | August 13, 2007.

(1) The Director of the Federal Register approved the incorporation by reference of the service information identified in Table 6 of this AD under 5 U.S.C. 552(a) and 1 CFR part 51.

Table 6.—New Material Incorporated by Reference
Airbus Service Bulletin | Revision level | Date
A330-57-3096, excluding Appendix 01 | 02 | August 13, 2007.
A340-57-4104, excluding Appendix 01 | 02 | September 5, 2007.
A340-57-5009, excluding Appendix 01 | 01 | August 13, 2007.

(2) The Director of the Federal Register previously approved the incorporation by reference of the service information identified in Table 7 of this AD on February 15, 2007 (72 FR 4416, January 31, 2007).

Table 7.—Material Previously Incorporated by Reference
Airbus Service Bulletin | Revision level | Date
A330-57A3096 | Original | December 5, 2006.
A340-57A4104 | Original | December 5, 2006.
A340-57A5009 | Original | December 5, 2006.

(3) For service information identified in this AD, contact Airbus, 1 Rond Point Maurice Bellonte, 31707 Blagnac Cedex, France.

(4) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on October 24, 2007.
Stephen P. Boyd,
Assistant Manager, Transport Airplane Directorate, Aircraft Certification Service.

[FR Doc. E7-21394 Filed 10-31-07; 8:45 am]

BILLING CODE 4910-13-P